NUCLEAR REGULATORY COMMISSION

10 CFR Parts 1, 2, 40, 50, 51, 52, 70, 73, and 100

[NRC-2013-0019]

RIN 3150-AJ23

Miscellaneous Corrections

AGENCY: Nuclear Regulatory Commission.

ACTION: Final rule.

SUMMARY: The U.S. Nuclear Regulatory Commission (NRC) is amending its regulations to make miscellaneous corrections. These changes include updating the name of its human capital office, correcting and adding missing cross-references, correcting grammatical errors, revising language for clarity and consistency, and specifying metric units. This document is necessary to inform the public of these non-substantive changes to the NRC's regulations.

DATES: This rule is effective on July 8, 2013.

ADDRESSES: Please refer to Docket ID NRC-2013-0019 when contacting the NRC about the availability of information for this final rule. You may access information related to this final rule, which the NRC possesses and is publicly available, using any of the following methods:

• Federal Rulemaking Web site: Go to http://www.regulations.gov and search for Docket ID NRC-2013-0019. Address questions about NRC dockets to Carol Gallagher; telephone: 301-492-3668; email: Carol.Gallagher@nrc.gov. For technical questions, please contact the individual listed in the FOR FURTHER INFORMATION CONTACT section of this final rule.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Christian Leatherbury, Rules Announcements and Directives Branch, Division of Administrative Services, Office of Administration, U.S. Nuclear Regulatory Commission, Washington, DC 20555-0001, telephone: 301-492-3515, email: Christian.LeatherburyDaniels@nrc.gov.

SUPPLEMENTARY INFORMATION:

I. Introduction

The NRC is amending its regulations in chapter I of Title 10 of the Code of Federal Regulations (10 CFR) to make miscellaneous corrections. These changes include revising the name of its human capital office, correcting and adding missing cross-references, correcting grammatical errors, revising language for clarity and consistency, and specifying metric units. This document is necessary to inform the public of these non-substantive changes to the NRC's regulations.

II. Summary of Changes

10 CFR Part 1

Correct Office Title. The organizational name of the NRC's human capital office is changed from “Office of Human Resources” to “Office of the Chief Human Capital Officer,” wherever it appears in 10 CFR part 1.

10 CFR Part 2

Correct Reference. In § 2.311(b), the reference to § 2.341(c)(2) is incorrect. In this paragraph, the reference “§ 2.341(c)(2)” is replaced with the reference “§ 2.341(c)(3).”

Revise Language for Consistency. Section 2.346(e) is identical to 2.346(f) due to an error from the last revision to this section. The rule text is revised for consistency with the change intended from that rulemaking. The Commission's recent update to its rules of practice and procedure intended to authorize the Secretary to extend the time for the Commission to rule on a petition for review under § 2.341, and did not intend to create an identical provision to § 2.346(f). (77 FR 46576-46578, 46584; August 3, 2012). This change implements the intended revision to the language to maintain the authority of the Secretary to extend the time for the Commission to rule on a petition for review under § 2.341 and to remove the reference in the rule to § 2.311.

10 CFR Part 40

Correct Reference. In § 40.36(e)(2), the references to “Appendix C to this part,” “Appendix D to this part,” and “Appendix E to this part” are incorrect. In this paragraph, the references to these appendices should be replaced with references to “Appendix C to part 30 of this chapter,” “Appendix D to part 30 of this chapter,” and “Appendix E to part 30 of this chapter.”

10 CFR Part 50

Revise Language for Clarity. In § 50.47(d), the phrase “rated power” is revised to read, “rated thermal power” is added for clarity and consistency with 10 CFR 50.54(gg)(1).

In appendix E to 10 CFR part 50, section IV, paragraph F.2.a.(i), the phrase “rated power” is revised to read “rated thermal power” for clarity and consistency with 10 CFR 50.54(gg)(1).

Insert Missing References. In § 50.54, the reference to paragraphs (q) and (hh) are inserted to provide a complete list of provisions.

Correct Reference. In § 50.55(e)(4)(i), the reference to “(e)(10)” is incorrect. In this paragraph, the reference “(e)(10)” is replaced with the reference “(e)(4)(v).”

In § 50.55(e)(4)(iii), the references to “(e)(3)(ii)(C)” and “(4)(v)” are incorrect. In this paragraph, the reference “(e)(3)(ii)(C)” is replaced with reference “(e)(3)(iii)(C)” and the reference “(4)(v)” is replaced with reference “(e)(4)(v).”

In § 50.55(e)(6), the reference to “(e)(9)(ii)” is incorrect. In this paragraph, the reference “(e)(9)(ii)” is replaced with the reference “(e)(5)(ii).”

In appendix G to 10 CFR part 50, section IV, the reference to “Table 3” is incorrect. In this section the references to “Table 3” are replaced with the references to “Table 1.”

10 CFR Part 51

Revise Language for Clarity. In § 51.22(c)(9), the word “grants” is replaced by “issuance” to maintain conformity with the language concerning “issuance of an amendment” and because a “grant” of an exemption request is not subordinate to or part of the preceding “issuance of an amendment” language. The phrase “the issuance of an amendment to a permit or license for a reactor under part 50 or part 52 of this chapter,” is added to clarify that the exemption issuances covered by this categorical exclusion apply only to exemptions from requirements concerning the installation or use of a facility component located within the 10 CFR part 20 defined restricted area. The § 51.22(c)(9) categorical exclusion does not apply to issuances of exemptions from inspection or surveillance requirements. Issuances of exemptions from inspection or surveillance requirements are covered by the categorical exclusion set forth in § 51.22(c)(25)(vi)(C). The use of semicolons and changing “which” to “that” further clarifies the provision.

10 CFR Part 52

Correct Reference. In § 52.17(b)(2)(i), the reference to “Department of Homeland Security (DHS)” is replaced with the reference “Federal Emergency Management Agency (FEMA).”

Correct Reference. In § 52.17(b)(2)(ii), the reference to “DHS” is replaced with the reference “FEMA.”

Correct Reference. In § 52.18, the reference to “DHS” is replaced with “Federal Emergency Management Agency.”

Revise Language for Clarity. In § 52.79(b)(4), the phrase, “decrease in effectiveness” is revised to read “reduction in effectiveness,” for clarity and consistency with § 50.54(q)(iv).

Insert Missing Reference. In § 52.163, the reference to subpart E is inserted to provide a complete list of referenced hearing procedures.

10 CFR Part 70

Correct Reference. In § 70.25(f)(2), the references to “Appendix A to this part,” “Appendix C to this part,” “Appendix D to this part,” and “Appendix E to this part,” are incorrect. In this paragraph, the references to these appendices should be replaced with references to “appendix A to part 30 of this chapter,” “appendix C to part 30 of this chapter,” “appendix D to part 30 of this chapter,” and “appendix E to part 30 of this chapter.”

10 CFR Part 73

Correct Grammatical Error. In § 73.6, paragraph (a) is revised to replace the colon at the end of the sentence with a period. Paragraph (b), is revised to replace the semicolon and the word “and” at the end of the sentence with a period. These grammatical errors are being corrected to clarify that the criteria in paragraphs (a) and (b) are to be treated as independent criteria as intended in the Atomic Energy Commission's February 1, 1973 (38 FR 3082), final rule.

Adding Metric Units. In § 73.6(b), metric units are added for the external radiation level, “1 Gray (100 Rad),” and distance, “1 meter (3.3 feet),” to meet agency policy of using dual units.

10 CFR Part 100

Revise Language for Clarity. In § 100.20(b) and § 100.21(d) and (e), the term “site parameter” is revised to read, “site characteristics” for clarity and consistency with 10 CFR part 52.

Correct Reference. In appendix A to 10 CFR part 100, section II, the reference to § 50.10(c)(1) is no longer correct. In this sentence the reference “50.10(c)(1)” is replaced with the reference “50.10(a)(2)(ii).”

III. Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on the amendments because they will have no substantive impact and are of a minor and administrative nature dealing with corrections to certain CFR sections related only to management, organization, procedure, and practice. Specifically, the revisions are of the following types: Revision of the name for an NRC office; correction and insertion of cross-references to sections of 10 CFR chapter I; correction of grammatical errors; specification of metric units; and revision to provide clarity and consistency. These amendments do not require action by any person or entity regulated by the NRC. Also, the final rule does not change the substantive responsibilities of any person or entity regulated by the NRC.

IV. Environmental Impact: Categorical Exclusion

The NRC has determined that this final rule is the type of action described in categorical exclusion 10 CFR 51.22(c)(2), which excludes from a major action rules which are corrective or of minor nonpolicy nature and do not substantially modify existing regulations. Therefore, neither an environmental impact statement nor an environmental assessment has been prepared for this rule.

V. Paperwork Reduction Act Statement

This final rule does not contain information collection requirements and, therefore, is not subject to the Paperwork Reduction Act of 1995 (44 U.S.C. 3501 et seq.).

Public Protection Notification

The NRC may not conduct or sponsor, and a person is not required to respond to, a request for information or an information collection requirement unless the requesting document displays a currently valid Office of Management and Budget control number.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VII. Backfitting and Issue Finality

The NRC has determined that the administrative changes in this final rule do not constitute backfitting, and therefore a backfit analysis is not included. The revisions are administrative in nature, including revision of the name for an NRC office; correction and insertion of cross-references to sections of 10 CFR Chapter I; correction of grammatical errors; specification of metric units; and revisions to provide clarity and consistency. They impose no new requirements and make no substantive changes to the regulations. The revisions do not involve any provisions that would impose backfits as defined in 10 CFR chapter I, or would be inconsistent with the issue finality provisions in 10 CFR part 52. For these reasons, the issuance of the rule in final form would not constitute backfitting. Therefore, a backfit analysis was not prepared.

List of Subjects

10 CFR Part 1

Organization and functions (Government Agencies).

10 CFR Part 2

Administrative practice and procedure, Antitrust, Byproduct material, Classified information, Environmental protection, Nuclear materials, Nuclear power plants and reactors, Penalties, Sex discrimination, Source material, Special nuclear material, Waste treatment and disposal.

10 CFR Part 40

Criminal penalties, Government contracts, Hazardous materials transportation, Nuclear materials, Reporting and recordkeeping requirements, Source material, Uranium.

10 CFR Part 50

Antitrust, Classified information, Criminal penalties, Fire protection, Intergovernmental relations, Nuclear power plants and reactors, Radiation protection, Reactor siting criteria, Reporting and recordkeeping requirements.

10 CFR Part 51

Administrative practice and procedure, Environmental impact statement, Nuclear materials, Nuclear power plants and reactors, Reporting and recordkeeping requirements.

10 CFR Part 52

Administrative practice and procedure, Antitrust, Backfitting, Combined license, Early site permit, Emergency planning, Fees, Inspection, Limited work authorization, Nuclear power plants and reactors, Probabilistic risk assessment, Prototype, Reactor siting criteria, Redress of site, Reporting and recordkeeping requirements, Standard design, Standard design certification.

10 CFR Part 70

Criminal penalties, Hazardous materials transportation, Material control and accounting, Nuclear materials, Packaging and containers, Radiation protection, Reporting and recordkeeping requirements, Scientific equipment, Security measures, Special nuclear material.

10 CFR Part 73

Criminal penalties, Export, Hazardous materials transportation, Import, Nuclear materials, Nuclear power plants and reactors, Reporting and recordkeeping requirements, Security measures.

10 CFR Part 100

Nuclear power plants and reactors, Reactor siting criteria.

For the reasons set out in the preamble and under the authority of the Atomic Energy Act of 1954, as amended; the Energy Reorganization Act of 1974, as amended; and 5 U.S.C. 552 and 553, the NRC is adopting the following amendments to 10 CFR parts 1, 2, 40, 50, 51, 52, 70, 73, and 100.

PART 1—STATEMENT OF ORGANIZATION AND GENERAL INFORMATION

1. The authority citation for part 1 continues to read as follows:

Authority: Atomic Energy Act secs. 23, 29, 161, 191 (42 U.S.C. 2033, 2039, 2201, 2241); Energy Reorganization Act secs. 201, 203, 204, 205, 209 (42 U.S.C. 5841, 5843, 5844, 5845, 5849); 5 U.S.C. 552, 553; Reorganization Plan No. 1 of 1980, 45 FR 40561, June 16, 1980.

2. In part 1, wherever it appears, remove the phrase “Office of Human Resources” and add in its place the phrase “Office of the Chief Human Capital Officer.”

PART 2—AGENCY RULES OF PRACTICE AND PROCEDURE

3. The authority citation for part 2 continues to read as follows:

Authority: Atomic Energy Act secs.161, 181, 191 (42 U.S.C. 2201, 2231, 2241); Energy Reorganization Act sec. 201 (42 U.S.C. 5841); 5 U.S.C. 552; Government Paperwork Elimination Act sec. 1704 (44 U.S.C. 3504 note).

Section 2.101 also issued under Atomic Energy Act secs. 53, 62, 63, 81, 103, 104 (42 U.S.C. 2073, 2092, 2093, 2111, 2133, 2134, 2135); Nuclear Waste Policy Act sec. 114(f) (42 U.S.C. 10143(f)); National Environmental Policy Act sec. 102 (42 U.S.C. 4332); Energy Reorganization Act sec. 301 (42 U.S.C. 5871).

Sections 2.102, 2.103, 2.104, 2.105, 2.321 also issued under Atomic Energy Act secs. 102, 103, 104, 105, 183i, 189 (42 U.S.C. 2132, 2133, 2134, 2135, 2233, 2239). Sections 2.200-2.206 also issued under Atomic Energy Act secs. 161, 186, 234 (42 U.S.C. 2201 (b), (i), (o), 2236, 2282); sec. 206 (42 U.S.C. 5846). Section 2.205(j) also issued under Pub. L. 101-410, as amended by section 3100(s), Pub. L. 104-134 (28 U.S.C. 2461 note). Subpart C also issued under Atomic Energy Act sec. 189 (42 U.S.C. 2239). Section 2.301 also issued under 5 U.S.C. 554. Sections 2.343, 2.346, 2.712 also issued under 5 U.S.C. 557. Section 2.340 also issued under Nuclear Waste Policy Act secs. 135, 141, Pub. L. 97-425, 96 Stat. 2232, 2241 (42 U.S.C. 10155, 10161). Section 2.390 also issued under 5 U.S.C. 552. Sections 2.600-2.606 also issued under sec. 102 (42 U.S.C. 4332). Sections 2.800 and 2.808 also issued under 5 U.S.C. 553. Section 2.809 also issued under 5 U.S.C. 553; Atomic Energy Act sec. 29 (42 U.S.C. 2039). Subpart K also issued under Atomic Energy Act sec. 189 (42 U.S.C. 2239); Nuclear Waste Policy Act sec. 134 (42 U.S.C. 10154). Subpart L also issued under Atomic Energy Act sec. 189 (42 U.S.C. 2239). Subpart M also issued under Atomic Energy Act sec. 184, 189 (42 U.S.C. 2234, 2239). Subpart N also issued under Atomic Energy Act sec. 189 (42 U.S.C. 2239).

4. In § 2.311, revise paragraph (b) to read as follows:

§ 2.311 Interlocutory review of rulings on requests for hearings/petitions to intervene, selection of hearing procedures, and requests by potential parties for access to sensitive unclassified non-safeguards information and safeguards information.

* * * * *

(b) These appeals must be made as specified by the provisions of this section, within 25 days after the service of the order. The appeal must be initiated by the filing of a notice of appeal and accompanying supporting brief. Any party who opposes the appeal may file a brief in opposition to the appeal within 25 days after service of the appeal. The supporting brief and any answer must conform to the requirements of § 2.341(c)(3). No other appeals from rulings on requests for hearing are allowed.

* * * * *

5. In § 2.346, revise paragraph (e) to read as follows:

§ 2.346 Authority of the Secretary.

* * * * *

(e) Extend the time for the Commission to rule on a petition for review under § 2.341;

* * * * *

PART 40—DOMESTIC LICENSING OF SOURCE MATERIAL

6. The authority citation for part 40 continues to read as follows:

Authority: Atomic Energy Act secs. 11(e)(2), 62, 63, 64, 65, 81, 161, 181, 182, 183, 186, 193, 223, 234, 274, 275 (42 U.S.C. 2014(e)(2), 2092, 2093, 2094, 2095, 2111, 2113, 2114, 2201, 2231, 2232, 2233, 2236, 2243, 2273, 2282, 2021, 2022); Energy Reorganization Act secs. 201, 202, 206 (42 U.S.C. 5841, 5842, 5846); Government Paperwork Elimination Act sec. 1704 (44 U.S.C. 3504 note); Energy Policy Act of 2005, Pub. L. No. 109-59, 119 Stat. 594 (2005).

Section 40.7 also issued under Energy Reorganization Act sec. 211, Pub. L. 95-601, sec. 10, as amended by Pub. L. 102-486, sec. 2902 (42 U.S.C. 5851). Section 40.31(g) also issued under Atomic Energy Act sec. 122 (42 U.S.C. 2152). Section 40.46 also issued under Atomic Energy Act sec. 184 (42 U.S.C. 2234). Section 40.71 also issued under Atomic Energy Act sec. 187 (42 U.S.C. 2237).

7. In § 40.36, revise paragraph (e)(2) introductory text to read as follows:

§ 40.36 Financial assurance and recordkeeping for decommissioning.

* * * * *

(e) * * *

(2) A surety method, insurance, or other guarantee method. These methods guarantee that decommissioning costs will be paid. A surety method may be in the form of a surety bond, or letter of credit. A parent company guarantee of funds for decommissioning costs based on a financial test may be used if the guarantee and test are as contained in appendix A to part 30 of this chapter. For commercial corporations that issue bonds, a guarantee of funds by the applicant or licensee for decommissioning costs based on a financial test may be used if the guarantee and test are as contained in appendix C to part 30 of this chapter. For commercial companied that do not issue bonds, a guarantee of funds by the applicant or licensee for decommissioning costs may be used if the guarantee and test are as contained in appendix D to part 30 of this chapter. For nonprofit entities, such as colleges, universities, and nonprofit hospitals, a guarantee of funds by the applicant or licensee may be used if the guarantee and test are as contained in appendix E to part 30 of this chapter. Except for an external sinking fund, a parent company guarantee or guarantee by the applicant or licensee may not be used in combination with any other financial methods used to satisfy the requirements of this section. A guarantee by the applicant or licensee may not be used in any situation where the applicant or licensee has a parent company holding majority control of the voting stock of the company. Any surety method or insurance used to provide financial assurance for decommissioning must contain the following conditions:

* * * * *

PART 50—DOMESTIC LICENSING OF PRODUCTION AND UTILIZATION FACILITIES

8. The authority citation for part 50 continues to read as follows:

Authority: Atomic Energy Act secs. 102, 103, 104, 105, 147, 149, 161, 181, 182, 183, 186, 189, 223, 234 (42 U.S.C. 2132, 2133, 2134, 2135, 2167, 2169, 2201, 2231, 2232, 2233, 2236, 2239, 2273, 2282); Energy Reorganization Act secs. 201, 202, 206 (42 U.S.C. 5841, 5842, 5846); Nuclear Waste Policy Act sec. 306 (42 U.S.C. 10226); Government Paperwork Elimination Act sec. 1704 (44 U.S.C. 3504 note); Energy Policy Act of 2005, Pub. L. No. 109-58, 119 Stat. 194 (2005). Section 50.7 also issued under Pub. L. 95-601, sec. 10, as amended by Pub. L. 102-486, sec. 2902 (42 U.S.C. 5851). Section 50.10 also issued under Atomic Energy Act secs. 101, 185 (42 U.S.C. 2131, 2235); National Environmental Policy Act sec. 102 (42 U.S.C. 4332). Sections 50.13, 50.54(dd), and 50.103 also issued under Atomic Energy Act sec. 108 (42 U.S.C. 2138).

Sections 50.23, 50.35, 50.55, and 50.56 also issued under Atomic Energy Act sec. 185 (42 U.S.C. 2235). Appendix Q also issued under National Environmental Policy Act sec. 102 (42 U.S.C. 4332). Sections 50.34 and 50.54 also issued under sec. 204 (42 U.S.C. 5844). Sections 50.58, 50.91, and 50.92 also issued under Pub. L. 97-415 (42 U.S.C. 2239). Section 50.78 also issued under Atomic Energy Act sec. 122 (42 U.S.C. 2152). Sections 50.80—50.81 also issued under Atomic Energy Act sec. 184 (42 U.S.C. 2234).

9. In § 50.47, paragraph (d), revise the first sentence of the introductory text to read as follows:

§ 50.47 Emergency plans.

* * * * *

(d) Notwithstanding the requirements of paragraphs (a) and (b) of this section, and except as specified by this paragraph, no NRC or FEMA review, findings, or determinations concerning the state of offsite emergency preparedness or the adequacy of and capability to implement State and local or utility offsite emergency plans are required prior to issuance of an operating license authorizing only fuel loading or low power testing and training (up to 5 percent of the rated thermal power). * * *

* * * * *

10. In § 50.54, revise the second sentence of the introductory text to read as follows:

§ 50.54 Conditions of licenses.

* * * The following paragraphs with the exception of paragraph (r), (s), and (u) of this section are conditions in every combined license issued under part 52 of this chapter, provided, however, that paragraphs (i), (i-1), (j), (k), (l), (m), (n), (q), (w), (x), (y), (z), and (hh) of this section are only applicable after the Commission makes the finding under § 52.103(g) of this chapter.

* * * * *

11. In § 50.55, revise paragraphs (e)(4)(i), (e)(4)(iii), and (e)(6) introductory text to read as follows:

§ 50.55 Conditions of construction permits, early site permits, combined licenses, and manufacturing licenses.

* * * * *

(e) * * *

(4) * * *

(i) The holder of a facility construction permit subject to this part, combined license (until the Commission makes the finding under 10 CFR 52.103(g)), and manufacturing license who obtains information reasonably indicating that the facility fails to comply with the AEA, as amended, or any applicable regulation, order, or license of the Commission relating to a substantial safety hazard must notify the Commission of the failure to comply through a director or responsible officer or designated person as discussed in paragraph (e)(4)(v) of this section.

* * * * *

(iii) The holder of a facility construction permit subject to this part, combined license, or manufacturing license, who obtains information reasonably indicating that the quality assurance program has undergone any significant breakdown discussed in paragraph (e)(3)(iii)(C) of this section must notify the Commission of the breakdown in the quality assurance program through a director or responsible officer or designated person as discussed in paragraph (e)(4)(v) of this section.

* * * * *

(6) Content of notification. The written notification required by paragraph (e)(5)(ii) of this section must clearly indicate that the written notification is being submitted under § 50.55(e) and include the following information, to the extent known.

* * * * *

12. In appendix E to part 50, section IV, paragraph F.2.a.(i), revise the first sentence to read as follows:

Appendix E to Part 50—Emergency Planning and Preparedness for Production and Utilization Facilities

* * * * *

IV. * * *

F. * * *

2. * * *

a. * * *

(i) For an operating license issued under this part, this exercise must be conducted within 2 years before the issuance of the first operating license for full power (one authorizing operation above 5 percent of rated thermal power) of the first reactor and shall include participation by each State and local government within the plume exposure pathway EPZ and each state within the ingestion exposure pathway EPZ. * * *

* * * * *

13. In appendix G to part 50, section IV, revise paragraphs A.2.a., A.2.b., and A.2.c. to read as follows:

Appendix G to Part 50—Fracture Toughness Requirements

* * * * *

IV. * * *

A. * * *

2. * * *

a. Pressure-temperature limits and minimum temperature requirements for the reactor vessel are given in table 1, and are defined by the operating condition (i.e., hydrostatic pressure and leak tests, or normal operation including anticipated operational occurrences), the vessel pressure, whether or not fuel is in the vessel, and whether the core is critical. In table 1, the vessel pressure is defined as a percentage of the preservice system hydrostatic test pressure. The appropriate requirements on both the pressure-temperature limits and the minimum permissible temperature must be met for all conditions.

b. The pressure-temperature limits identified as “ASME Appendix G limits” in table 1 require that the limits must be at least as conservative as limits obtained by following the methods of analysis and the margins of safety of Appendix G of Section XI of the ASME Code.

c. The minimum temperature requirements given in table 1 pertain to the controlling material, which is either the material in the closure flange of the material in the beltline region with the highest reference temperature. As specified in table 1, the minimum temperature requirements and the controlling material depend on the operating condition (i.e., hydrostatic pressure and leak tests, or normal operation including anticipated operational occurrences), the vessel pressure, whether fuel is in the vessel, and whether the core is critical. The metal temperature of the controlling material, in the region of the controlling material which has the least favorable combination of stress and temperature must exceed the appropriate minimum temperature requirement for the condition and pressure of the vessel specified in table 1.

* * * * *

PART 51—ENVIRONMENTAL PROTECTION REGULATIONS FOR DOMESTIC LICENSING AND RELATED REGULATORY FUNCTIONS

14. The authority citation for part 51 continues to read as follows:

Authority: Atomic Energy Act sec. 161, 1701 (42 U.S.C. 2201, 2297f); Energy Reorganization Act secs. 201, 202, 211 (42 U.S.C. 5841, 5842, 5851); Government Paperwork Elimination Act sec. 1704 (44 U.S.C. 3504 note). Subpart A also issued under National Environmental Policy Act secs. 102, 104, 105 (42 U.S.C. 4332, 4334, 4335); Pub. L. 95-604, Title II, 92 Stat. 3033-3041; Atomic Energy Act sec. 193 (42 U.S.C. 2243). Sections 51.20, 51.30, 51.60, 51.80. and 51.97 also issued under Nuclear Waste Policy Act secs. 135, 141, 148 (42 U.S.C. 10155, 10161, 10168). Section 51.22 also issued under Atomic Energy Act sec. 274 (42 U.S.C. 2021) and under Nuclear Waste Policy Act sec. 121 (42 U.S.C. 10141). Sections 51.43, 51.67, and 51.109 also issued under Nuclear Waste Policy Act sec. 114(f) (42 U.S.C. 10134(f)).

15. In § 51.22, revise paragraph (c)(9) introductory text to read as follows:

§ 51.22 Criterion for categorical exclusion; identification of licensing and regulatory actions eligible for categorical exclusion or otherwise not requiring environmental review.

* * * * *

(c) * * *

(9) Issuance of an amendment to a permit or license for a reactor under part 50 or part 52 of this chapter that changes a requirement or issuance of an exemption from a requirement, with respect to installation or use of a facility component located within the restricted area, as defined in part 20 of this chapter; or the issuance of an amendment to a permit or license for a reactor under part 50 or part 52 of this chapter that changes an inspection or a surveillance requirement; provided that:

* * * * *

PART 52—LICENSES, CERTIFICATIONS, AND APPROVALS FOR NUCLEAR POWER PLANTS

16. The authority citation for part 52 continues to read as follows:

Authority: Atomic Energy Act secs. 103, 104, 147, 149, 161, 181, 182, 183, 185, 186, 189, 223, 234 (42 U.S.C. 2133, 2201, 2167, 2169, 2232, 2233, 2235, 2236, 2239, 2282); Energy Reorganization Act secs. 201, 202, 206, 211 (42 U.S.C. 5841, 5842, 5846, 5851); Government Paperwork Elimination Act sec. 1704 (44 U.S.C. 3504 note); Energy Policy Act of 2005, Pub. L. 109-58, 119 Stat. 594 (2005).

17. In § 52.17, revise paragraphs (b)(2)(i) and (b)(2)(ii) to read as follows:

§ 52.17 Contents of applications; technical information.

* * * * *

(b) * * *

(2) * * *

(i) Propose major features of the emergency plans, in accordance with the pertinent standards of 10 CFR 50.47 and the requirements of appendix E to 10 CFR part 50 of this chapter, such as the exact size and configuration of the emergency planning zones, for review and approval by the NRC, in consultation with the Federal Emergency Management Agency (FEMA) in the absence of complete and integrated emergency plans; or

(ii) Propose complete and integrated emergency plans for review and approval by the NRC, in consultation with FEMA. In accordance with the applicable standards of 10 CFR 50.47 and the requirement of appendix E to 10 CFR part 50 of this chapter. To the extent approval of emergency plans sought, the application must contain the information required by § 50.33(g) and (j) of this chapter.

* * * * *

18. In § 52.18, revise the last sentence to read as follows:

§ 52.18 Standards for review of applications.

* * * The Commission shall determine, after consultation with FEMA, whether the information required of the applicant by § 52.17(b)(1) shows that there is not significant impediment to the development of emergency plans that cannot be mitigated or eliminated by measures proposed by the applicant, whether any major features of emergency plans submitted by the applicant under § 52.17(b)(2)(i) are acceptable in accordance with the applicable standards of 10 CFR 50.47 and the requirements of appendix E to 10 CFR part 50 of this chapter, and whether any emergency plans submitted by the applicant under § 52.17(b)(2)(ii) provide reasonable assurance that adequate protective measures can and will be taken in the event of a radiological emergency.

19. In § 52.79, paragraph (b)(4), revise the last sentence to read as follows:

§ 52.79 Contents of applications; technical information in final safety analysis report.

* * * * *

(b) * * *

(4) * * * The application must identify changes to the emergency plans or major features of emergency plans that have been incorporated into the proposed facility emergency plans and that constitute or would constitute a reduction in effectiveness under § 50.54(q) of this chapter.

* * * * *

20. In § 52.163, revise the last sentence to read as follows:

§ 52.163 Administrative review of applications; hearings.

* * * All hearings on manufacturing licenses are governed by the hearing procedures contained in 10 CFR part 2, subparts C, E, G, L, and N.

PART 70—DOMESTIC LICENSING OF SPECIAL NUCLEAR MATERIAL

21. The authority citation for part 70 continues to read as follows:

Authority: Atomic Energy Act secs. 51, 53, 161, 182, 183, 193, 223, 234 (42 U.S.C. 2071, 2073, 2201, 2232, 2233, 2243, 2273, 2282, 2297f); secs. 201, 202, 204, 206, 211 (42 U.S.C. 5841, 5842, 5845, 5846, 5851); Government Paperwork Elimination Act sec. 1704 (44 U.S.C. 3504 note); Energy Policy Act of 2005, Pub. L. No. 109-58, 119 Stat. 194 (2005).

Sections 70.1(c) and 70.20a(b) also issued under secs. 135, 141, Pub. L. 97-425, 96 Stat. 2232, 2241 (42 U.S.C. 10155, 10161).

Section 70.21(g) also issued under Atomic Energy Act sec. 122 (42 U.S.C. 2152). Section 70.31 also issued under Atomic Energy Act sec. 57(d) (42 U.S.C. 2077(d)). Sections 70.36 and 70.44 also issued under Atomic Energy Act sec. 184 (42 U.S.C. 2234). Section 70.81 also issued under Atomic Energy Act secs. 186, 187 (42 U.S.C. 2236, 2237). Section 70.82 also issued under Atomic Energy Act sec. 108 (42 U.S.C. 2138).

22. In § 70.25, revise paragraph (f)(2) introductory text to read as follows:

§ 70.25 Financial assurance and recordkeeping for decommissioning.

* * * * *

(f) * * *

(2) A surety method, insurance, or other guarantee method. These methods guarantee that decommissioning costs will be paid. A surety method may be in the form of a surety bond, or letter of credit. A parent company guarantee of funds for decommissioning costs based on a financial test may be used if the guarantee and test are as contained in appendix A to part 30 of this chapter. For commercial corporations that issue bonds, a guarantee of funds by the applicant or licensee for decommissioning costs based on a financial test may be used is the guarantee and test are as contained in appendix C to part 30 of this chapter. For commercial companies that do not issue bonds, a guarantee of funds by the applicant or licensee for decommissioning costs may be used if the guarantee and test are as contained in appendix D to part 30 of this chapter. For nonprofit entities, such as colleges, universities, and nonprofit hospitals, a guarantee of funds by the applicant or licensee may be used if the guarantee and test are as contained in appendix E to part 30 of this chapter. Except for an external sinking fund, a parent company guarantee or a guarantee by the applicant or licensee may not be used in combination with any other financial methods used to satisfy the requirements of this section. A guarantee by the applicant or licensee may not be used in any situation where the applicant or licensee has a parent company holding majority control of the voting stock of the company. Any surety method or insurance used to provide financial assurance for decommissioning must contain the following conditions:

* * * * *

PART 73—PHYSICAL PROTECTION OF PLANTS AND MATERIALS

23. The authority citation for part 73 continues to read as follows:

Authority: Atomic Energy Act secs. 53, 147, 161, 223, 234, 1701 (42 U.S.C. 2073, 2167, 2169, 2201, 2273, 2282, 2297(f), 2210(e)); Energy Reorganization Act sec. 201, 204 (42 U.S.C. 5841, 5844); Government Paperwork Elimination Act sec. 1704, 112 Stat. 2750 (44 U.S.C. 3504 note); Energy Policy Act of 2005, Pub. L. 109-58, 119 Stat. 594 (2005).

Section 73.1 also issued under Nuclear Waste Policy Act secs. 135, 141 (42 U.S.C, 10155, 10161). Section 73.37(f) also issued under sec. 301, Pub. L. 96-295, 94 Stat. 789 (42 U.S.C. 5841 note).

24. In § 73.6, revise paragraphs (a) and (b) to read as follows:

§ 73.6 Exemptions for certain quantities and kinds of special nuclear material.

* * * * *

(a) Uranium-235 contained in uranium enriched to less than 20 percent in the U-235 isotope.

(b) Special nuclear material which is not readily separable from other radioactive material and which has a total external radiation level in excess of 1 Gray (100 Rad) per hour at a distance of 1 meter (3.3 feet) from any accessible surface without intervening shielding.

* * * * *

PART 100—REACTOR SITE CRITERIA

25. The authority citation for part 100 continues to read as follows:

Authority: Atomic Energy Act secs. 103, 104, 161, 182 (42 U.S.C. 2133, 2134, 2201, 2232); Energy Reorganization Act secs. 201, 202 (42 U.S.C. 5841, 5842); Government Paperwork Elimination Act sec. 1704 (44 U.S.C. 3504 note).

26. In § 100.20, revise paragraph (b) to read as follows:

§ 100.20 Factors to be considered when evaluating sites.

* * * * *

(b) The nature and proximity of man-related hazards (e.g., airports, dams, transportation routes, military and chemical facilities) must be evaluated to establish site characteristics for use in determining whether a plant design can accommodate commonly occurring hazards, and whether the risk of other hazards is very low.

* * * * *

27. In § 100.21, revise paragraphs (d) and (e) to read as follows:

§ 100.21 Non-seismic siting criteria.

* * * * *

(d) The physical characteristics of the site, including meteorology, geology, seismology, and hydrology must be evaluated and site characteristics established such that potential threats from such physical characteristics will pose no undue risk to the type of facility proposed to be located at the site;

(e) Potential hazards associated with nearby transportation routes, industrial and military facilities must be evaluated and site characteristics established such that potential hazards from such routes and facilities will pose no undue risk to the type of facility proposed to be located at the site;

* * * * *

28. In appendix A to part 100, section II, revise the second paragraph to read as follows:

Appendix A to Part 100—Seismic and Geologic Siting Criteria for Nuclear Power Plants

* * * * *

II. SCOPE

* * * * *

The investigations described in this appendix are within the scope of investigations permitted by § 50.10(a)(2)(ii) of this chapter.

* * * * *

Dated at Rockville, Maryland, this 31st day of May 2013.
For the Nuclear Regulatory Commission.
Helen Chang,
Acting Chief, Rules, Announcements, and Directives Branch, Division of Administrative Services, Office of Administration.

[FR Doc. 2013-13539 Filed 6-6-13; 8:45 am]

BILLING CODE 7590-01-P